DEPARTMENT OF THE INTERIOR

Bureau of Land Management

[LLCAN03900 L17110000 AL0000]

Proposed Information Collection; Visitor Use Surveys for Headwaters Forest Reserve and King Range National Conservation Area

AGENCY: Bureau of Land Management, Interior.

ACTION: 30-Day Notice and Request for Comments.

SUMMARY: The Bureau of Land Management (BLM) has submitted a request to the Office of Management and Budget (OMB) to approve surveys of visitors to the Headwaters Forest Reserve (Reserve) and the King Range National Conservation Area (KRNCA) in California. In compliance with the Paperwork Reduction Act of 1995, the BLM invites the general public and other Federal agencies to comment on this proposed information collection.

DATES: The OMB is required to respond to this information collection request within 60 days but may respond after 30 days. Therefore, written comments should be received on or before May 16, 2012.

ADDRESSES: Please submit comments directly to the Desk Officer for the Department of the Interior (OMB #1004-New), Office of Management and Budget, Office of Information and Regulatory Affairs, fax 202-395-5806, or by electronic mail at oira_docket@omb.eop.gov. Please provide a copy of your comments to the BLM. You may do so via mail, fax, or electronic mail.

Mail: U.S. Department of the Interior, Bureau of Land Management, 1849 C Street NW., Room 2134LM, Attention: Jean Sonneman, Washington, DC 20240.

Fax: To Jean Sonneman at 202-245-0050.

Electronic mail: Jean_Sonneman@blm.gov. Please indicate “Attn: 1004-New” regardless of the form of your comments.

FOR FURTHER INFORMATION CONTACT: Chris Heppe, Arcata Field Office, at (707) 825-2351 (Commercial or FTS). Persons who use a telecommunication device for the deaf (TDD) may call the Federal Information Relay Service (FIRS) on 1-800-877-8339, to contact Mr. Heppe. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain an OMB control number, Federal agencies are required to seek public comment on information collection and recordkeeping activities (see 5 CFR 1320.10(a)).

The BLM published a 60-day notice in the Federal Register on February 8, 2011 (76 FR 6815), and the comment period ended April 11, 2011. The BLM received no comments. The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-NEW in your correspondence. Before including your address, phone number, email address, or other personal identifying information in your comment, you should be aware that your entire comment—including your personal identifying information—may be made publicly available at any time. While you can ask us in your comment to withhold your personal identifying information from public review, we cannot guarantee that we will be able to do so.

The following information is provided for the information collection:

Title: Visitor Use Surveys for Headwaters Forest Reserve and King Range National Conservation Area.

Forms: None.

OMB Control Number: 1004-New.

Abstract: The proposed visitor use surveys would assist the BLM in meeting goals set forth in Resource Management Plans (RMPs) for the Reserve and the KRNCA that the BLM approved in 2004 and 2005, respectively. The BLM conducted baseline studies of visitor-use characteristics in the Reserve and the KRNCA in 1999 and 2003, respectively.

In light of the addition of new facilities, the implementation of new management actions, and increasing annual visitation, the BLM needs to conduct new visitor-use studies. The information will assist the BLM in determining changes in visitor characteristics, including demographics, usage, user conflicts, and perspectives on management programs and facilities. The methods will include conducting on-site interviews with visitors on a stratified random sampling basis and distributing mail-back questionnaires. The study will take place during the summer season when visitation rates are highest. Data will be analyzed and a final report developed for both the Reserve and the KRNCA. This collection of information will enable the BLM to respond to problems, protect natural and cultural resources, and develop appropriate interpretive programs.

Frequency: One-time.

Description of Respondents: Visitors and recreationists.

Respondents' Obligation: Voluntary.

Estimated Reporting and Recordkeeping “Hour” Burden: The estimated reporting burden for this collection is 1,700 responses and 467 hours. The following table details the individual components and estimated hour burdens of this collection.

Estimated Number of Respondents, Responses and Time
Activity | Estimated number of respondents | Estimated number of responses per respondent | Completion time per response (minutes) | Total burden hours
Headwaters Visitor Interview | 600 | 1 | 7 | 70
Headwaters Mail-back survey | 420 | 1 | 30 | 210
KRNCA Visitor Interview | 400 | 1 | 7 | 47
KRNCA Mail-back survey | 280 | 1 | 30 | 140
Totals | 1,700 |  |  | 467

Estimated Reporting and Recordkeeping “Non-Hour Cost” Burden: None.

Jean Sonneman,
Information Collection Clearance Officer, Bureau of Land Management.

[FR Doc. 2012-8969 Filed 4-13-12; 8:45 am]

BILLING CODE 4310-84-P